DEPARTMENT OF COMMERCE

National Oceanic and Atmospheric Administration

Proposed Information Collection; Comment Request; Alaska Region Scale and Catch Weighing Requirements

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 30, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden, at (907) 586-7008 or patsy.bearden@noaa.gov.

SUPPLEMENTARY INFORMATION:

I. Abstract

The scale and catch weighing requirements address performance standards designed to ensure that all catch delivered to the processor is accurately weighed and accounted for. Scale and catch-weighing monitoring is required for Western Alaska Community Development Quota Program (CDQ) catcher/processors, American Fisheries Act (AFA) catcher/processors, AFA motherships, AFA shoreside processors and stationary floating processors, non-AFA trawl catcher/processors regulated under the annual Groundfish Retention Standard, and Crab Rationalization crab catcher/processors and Registered Crab Receivers.

National Marine Fisheries Service (NMFS) has identified three primary objectives for monitoring catch. First, monitoring must ensure independent verification of catch weight, species composition, and location data for every delivery by a catcher vessel or every pot by a catcher/processor. Second, all catch must be weighed accurately using NMFS-approved scales to determine the weight of total catch. Third, the system must provide a verifiable record of the weight of each delivery. In addition, operators of these vessels must ensure that each haul is observed by a NMFS-approved observer for verification that all fish are weighed. To effectively manage fisheries, NMFS must have data that will provide reliable independent estimates of the total catch.

The catch weighing and monitoring system developed by NMFS for catcher/processors and motherships is based on the vessel meeting a series of design criteria. Because of the wide variations in factory layout for inshore processors, NMFS requires a performance-based catch monitoring system for inshore processors.

II. Method of Collection

For those items not connected with a scale, respondents have a choice of either electronic or paper forms. Methods of submittal include e-mail of electronic forms, and mail and facsimile transmission of paper forms.

III. Data

OMB Control Number: 0648-0330.

Form Number: None.

Type of Review: Regular submission.

Affected Public: Individuals or households and business or other for-profit

Estimated Number of Respondents: 113.

Estimated Time per Response: 21 hours for scale type evaluation; 45 minutes for records for daily flow scale tests; 45 minutes for records for daily automatic hopper scale tests; 1 minute for printed output, at-sea scales; 6 minutes for at-sea inspection request; 2 hours for at-sea scale approval report/sticker; 2 hours for observer sampling station inspection request; 1 hour for video monitoring system; 2 hours for bin monitoring inspection request; 2 minutes to notify observer of scale tests; 5 minutes to notify observer of offload schedule for BSAI pollock; 16 hours for crab catch monitoring plan; 40 hours for inshore catch monitoring and control plan (CMCP); 5 minutes for inshore CMCP inspection request; 1 minute for Alaska State scale printed output; and 8 hours for inshore CMCP addendum.

Estimated Total Annual Burden Hours: 5,209.

Estimated Total Annual Cost to Public: $628,504.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 24, 2010.
Gwellnar Banks,
Management Analyst, Office of the Chief Information Officer.

[FR Doc. 2010-4108 Filed 2-26-10; 8:45 am]

BILLING CODE 3510-22-P